DEPARTMENT OF ENERGY

DOE/NSF Nuclear Science Advisory Committee

AGENCY: Department of Energy, Office of Science.

ACTION: Notice of open meeting.

SUMMARY: This notice announces a meeting of the DOE/NSF Nuclear Science Advisory Committee (NSAC). The Federal Advisory Committee Act (Pub. L. 92-463, 86 Stat. 770) requires that public notice of these meetings be announced in the Federal Register.

DATES: Thursday, December 19, 2013, 9:00 a.m.-5:00 p.m.

ADDRESSES: Gaithersburg Marriott Washingtonian Center, 9751 Washingtonian Boulevard, Gaithersburg, Maryland 20878, (301) 590-0044.

FOR FURTHER INFORMATION CONTACT: Brenda L. May, U.S. Department of Energy; SC-26/Germantown Building, 1000 Independence Avenue SW., Washington, DC 20585-1290; Telephone: (301) 903-0536

SUPPLEMENTARY INFORMATION:

Purpose of Meeting: To provide advice and guidance on a continuing basis to the Department of Energy and the National Science Foundation on scientific priorities within the field of basic nuclear science research.

Tentative Agenda: Agenda will include discussions of the following:

Thursday, December 19, 2013

• Perspectives from Department of Energy and National Science Foundation

• Update from the Department of Energy and National Science Foundation's Nuclear Physics Office's

• The 2013 ONP Comparative Research Review

• Presentation of the Charge on Neutrino-less Double Beta

• Presentation of the Charge on NNSA Development of Mo-99 Domestic Supply

• Public Comment (10-minute rule)

Note: The NSAC Meeting will be broadcast live on the Internet. You may find out how to access this broadcast by going to the following site prior to the start of the meeting. A video record of the meeting including the presentations that are made will be archived at this site after the meeting ends: www.tvworldwide.com/events/doe/131007.

Public Participation: The meeting is open to the public. If you would like to file a written statement with the Committee, you may do so either before or after the meeting. If you would like to make oral statements regarding any of these items on the agenda, you should contact Brenda L. May, (301) 903-0536 or Brenda.May@science.doe.gov (email). You must make your request for an oral statement at least 5 business days before the meeting. Reasonable provision will be made to include the scheduled oral statements on the agenda. The Chairperson of the Committee will conduct the meeting to facilitate the orderly conduct of business. Public comment will follow the 10-minute rule.

Minutes: The minutes of the meeting will be available on the U.S. Department of Energy's Office of Science Web site for viewing: http://science.doe.gov/np/nsac.

Issued at Washington, DC, on November 14, 2013.
LaTanya R. Butler,
Deputy Committee Management Officer.

[FR Doc. 2013-27869 Filed 11-19-13; 8:45 am]

BILLING CODE 6450-01-P